DEPARTMENT OF HEALTH AND HUMAN SERVICES

Office of the Secretary

45 CFR Parts 160 and 162

[CMS-0053-N]

RIN 0938-AT38

Administrative Simplification: Adoption of Standards for Health Care Attachments Transactions and Electronic Signatures, and Modification to Referral Certification and Authorization Transaction Standard; Extension of Comment Period

AGENCY: Office of the Secretary, Department of Health and Human Services (HHS).

ACTION: Proposed rule; extension of comment period.

SUMMARY: This document extends the comment period for the proposed rule that appeared in the Federal Register on December 21, 2022, titled “Administrative Simplification: Adoption of Standards for Health Care Attachments Transactions and Electronic Signatures, and Modification to Referral Certification and Authorization Transaction Standard. The comment period for the proposed rule, which would end on March 21, 2023, is extended until April 21, 2023.

DATES: The comment period for the December 21, 2022 proposed rule (87 FR 78438) is extended to 5 p.m., eastern daylight time, on April 21, 2023.

ADDRESSES: You may submit comments as outlined in the December 21, 2022 proposed rule (87 FR 78438). Please choose only one of the methods listed.

FOR FURTHER INFORMATION CONTACT: Geanelle G. Herring, (410) 786-4466 and Christopher Wilson, (410) 786-3178.

SUPPLEMENTARY INFORMATION: Inspection of Public Comments: All comments received before the close of the comment period shall be made available for viewing by the public, including any personally identifiable or confidential business information that is included in a comment. We will post all comments received before the close of the comment period on the following website as soon as possible after they have been received: https://www.regulations.gov. Follow the search instructions on that website to view public comments.

In the December 21, 2022 Federal Register (87 FR 78438), we published a proposed rule titled “Administrative Simplification: Adoption of Standards for Health Care Attachments Transactions and Electronic Signatures, and Modification to Referral Certification and Authorization Transaction Standard” (hereinafter referred to as the December 2022 proposed rule). This rule would implement requirements of the Administrative Simplification subtitle of the Health Insurance Portability and Accountability Act of 1996 (HIPAA) and the Patient Protection and Affordable Care Act, as amended by the Health Care and Education Reconciliation Act of 2010, enacted on March 30, 2010—collectively, the Affordable Care Act. Specifically, this proposed rule would adopt standards for “health care attachments” transactions, which would support both health care claims and prior authorization transactions, and a standard for electronic signatures to be used in conjunction with health care attachments transactions. To better support the use of the proposed standards for attachments transactions with prior authorization transactions, this rule also proposes to adopt a modification to the standard for the referral certification and authorization transaction (X12 278) to move from Version 5010 to Version 6020.

In the March 17, 2023 Federal Register (88 FR 16392), we published a correcting document to correct typographical and technical errors in the December 2022 proposed rule, for which we had provided for 90 days for public comment. That correcting document simply conformed the regulations text to the proposed policies discussed in the preamble to the December 2022 proposed rule. But, we believe it is important to allow the public to have the benefit of reviewing the proposed rule as we intended it, particularly because most of the errors in the proposed rule were in the regulations text. Therefore, we are extending the comment period for the December, 2022, proposed rule by 30 days. This document announces the extension of the public comment period for the proposed rule, which will now end at 5 p.m., eastern daylight time, on April 21, 2023.

Dated: March 20, 2023.
Xavier Becerra,
Secretary, Department of Health and Human Services.

[FR Doc. 2023-06034 Filed 3-21-23; 11:15 am]

BILLING CODE 4120-01-P